DEPARTMENT OF AGRICULTURE

Submission for OMB Review; Comment Request

November 10, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: USDA APHIS Peer Reviewer's Certification Regarding Conflict of Interest.

OMB Control Number: 0579-0304.

Summary Of Collection: The Information or Data Quality Act (Pub. L. 106-554, 515 Appendix C, 114 Stats. 2763A-153-154) and OMB's Peer Review Bulletin (70 FR 2664-2677) requires federal agencies to select peer reviewer's of influential and highly influential information and to examine their financial ties to regulate entities, other stakeholders, and the agency. Some of the information that the Animal and Plant Health Inspection Service (APHIS) disseminates is “influential” that is, it has a clear and substantial impact on important public policies or important private sector decisions.

Need and Use of the Information: APHIS will collect information using APHIS form 6004, Peer Reviewer Information, to ensure that all nonfederal peer reviewers who are recruited by the Agency have no conflicts of interest with respect to peer review of a specific scientific document that will be used for purposes of making policy or dissemination to the public.

Description of Respondents: Individuals or households.

Number of Respondents: 50.

Frequency of Responses: Reporting: Other (once).

Total Burden Hours: 13.

Ruth Brown,
Departmental Information Collection Clearance Officer.

[FR Doc. E9-27508 Filed 11-16-09; 8:45 am]

BILLING CODE 3410-34-P